DEPARTMENT OF ENERGY

Advanced Scientific Computing Advisory Committee Charter Renewal

AGENCY: Department of Energy, Office of Science.

ACTION: Notice of renewal.

SUMMARY: Pursuant to Section 14(a)(2)(A) of the Federal Advisory Committee Act (Pub. L. 92-463), and in accordance with Title 41 of the Code of Federal Regulations, Section 102-3.65(a), and following consultation with the Committee Management Secretariat, General Services Administration, notice is hereby given that the Advanced Scientific Computing Advisory Committee will be renewed for a two-year period beginning July 1, 2011. The Committee provides advice and recommendations concerning the Advanced Scientific Computing program in response only to charges from the Director of the Office of Science, except as described:

—Periodic reviews of elements of Advanced Scientific Computing Research program and recommendations based thereon;

—Advice on the computing long-range plans, priorities, and strategies to address more effectively the scientific aspects of advanced scientific computing including the relationship of advanced scientific computing to other scientific disciplines;

—Advice on appropriate levels and sector allocation of funding to develop those plans, priorities, and strategies and to help maintain appropriate balance among elements of the program; and

—Advice on national policy and scientific issues related to advanced scientific computing that are of concern to the Department of Energy as requested by the Secretary or the Under Secretary for Science.

Additionally, the renewal of the Advanced Scientific Computing Advisory Committee has been determined to be essential to conduct Department of Energy business and to be in the public interest in connection with the performance of duties imposed upon the Department of Energy by law and agreement. The Committee will operate in accordance with the provisions of the Federal Advisory Committee Act, and rules and regulations issued in implementation of that Act.

Further information regarding this Advisory Committee may be obtained from Mrs. Christine Chalk at (301) 903-5152.

Issued at Washington, DC, on July 1, 2011.
Carol A. Matthews,
Committee Management Officer.

[FR Doc. 2011-17647 Filed 7-12-11; 8:45 am]

BILLING CODE 6450-01-P